Proclamation 10805 of September 6, 2024

National Grandparents Day, 2024

By the President of the United States of America

A Proclamation

For so many Americans, grandparents are the first people they look to for comfort, love, and guidance. Grandparents carry family wisdom, share their stories, and are the core of their families. On National Grandparents Day, we give thanks to grandparents and recognize their continuing contributions to our Nation.

Throughout my life, I have carried the values my grandparents instilled in me—but, above all, I have carried in my heart their memories and unconditional love. Like grandparents across the country, they taught me to be resilient no matter what life may hand you, to take care of everyone, and to leave no one behind. Now that the First Lady and I are grandparents, we work to do the same. Our grandchildren are blessings—they are the love of our lives and the life of our love.

Across the country, grandparents are not only providing their guidance, but they are also stepping up when their families need them most, especially to care for grandchildren. They help out with everyday tasks for their grandkids—whether it is driving them to school, packing lunches, or babysitting. Over 2.7 million grandparents are primary caregivers, creating a stable and warm home so that their grandkids can thrive. And with hearts that always have more to give, they offer advice and keep family traditions alive.

Just as our grandparents have always taken care of us, my Administration is working to take care of them. That work begins by ensuring they have access to the health care they need. I signed the Inflation Reduction Act to lower costs of medications by giving Medicare the power to negotiate lower prescription drug prices. The Inflation Reduction Act also capped the cost of insulin for people on Medicare at $35 per month, lowering it from as much as $400 per month. In line with our efforts to control costs, beginning in 2025, out-of-pocket prescription drug costs for seniors and people with disabilities on Medicare will be capped at $2,000 per year.

At the same time, my Administration is supporting the grandparents doing the critical work of caring for their grandchildren. At the height of the COVID-19 pandemic, my American Rescue Plan delivered $145 million to fund counseling, training, and relief for grandparents and others acting as caregivers. Further, my Administration's National Strategy to Support Family Caregivers includes the unique role of grandparents who are raising grandchildren. To that end, we finalized a rule that ensures kinship foster parents, including grandparents, receive the same resources to care for their grandkids as other foster homes while giving their grandkids a home they know and love. We are also taking action across the Federal Government to support the health, well-being, and financial security of family caregivers and providing more care options for families supporting people with disabilities.

For grandparents who are looking to share their experience and wisdom, the AmeriCorps Seniors Foster Grandparent Program provides opportunities for seniors to mentor young people in their neighborhoods.

On National Grandparents Day, we celebrate the contributions of grandparents across the country, whose love is the glue of so many families. Today, may we reflect on our greatest memories with our grandparents and express our gratitude for the lasting impact they have made on each one of us and the very soul of our Nation.

NOW, THEREFORE, I, JOSEPH R. BIDEN JR., President of the United States of America, by virtue of the authority vested in me by the Constitution and the laws of the United States, do hereby proclaim September 8, 2024, as National Grandparents Day. I call upon all Americans to celebrate the important role that grandparents play in the lives of their families and the children and grandchildren they love.

IN WITNESS WHEREOF, I have hereunto set my hand this sixth day of September, in the year of our Lord two thousand twenty-four, and of the Independence of the United States of America the two hundred and forty-ninth.

[FR Doc. 2024-20711

Filed 9-10-24; 8:45 am]

Billing code 3395-F4-P